DEPARTMENT OF THE TREASURY

Office of the Comptroller of the Currency

[Docket ID OCC-2020-0049]

BOARD OF GOVERNORS OF THE FEDERAL RESERVE SYSTEM

[Docket No. OP-1743]

FEDERAL DEPOSIT INSURANCE CORPORATION

RIN 3064-ZA24

BUREAU OF CONSUMER FINANCIAL PROTECTION

[Docket No. CFPB-2021-0004]

NATIONAL CREDIT UNION ADMINISTRATION

[Docket No. NCUA-2021-0023]

Request for Information and Comment on Financial Institutions' Use of Artificial Intelligence, Including Machine Learning

AGENCY: Board of Governors of the Federal Reserve System (Board), Bureau of Consumer Financial Protection (Bureau), Federal Deposit Insurance Corporation (FDIC), National Credit Union Administration (NCUA), and Office of the Comptroller of the Currency (OCC).

ACTION: Request for information and comment; Extension of comment period.

SUMMARY: On March 31, 2021, the Board, Bureau, FDIC, NCUA, and OCC (together, the agencies) published in the Federal Register a document entitled “Request for Information and Comment on Financial Institutions' Use of Artificial Intelligence, including Machine Learning” (RFI) and invited comments on financial institutions' use of artificial intelligence (AI), including machine learning (ML). In response to concerns raised by commenters that the current comment deadline may not provide sufficient time to analyze and respond to the RFI due to the complex technical nature and significance of the topic, the agencies have determined that an extension of the comment period until July 1, 2021, is appropriate.

DATES: The end of the comment period for the document entitled “Request for Information and Comment on Financial Institutions' Use of Artificial Intelligence, including Machine Learning,” published on March 31, 2020 (86 FR 16837), is extended from June 1, 2021, until July 1, 2021.

ADDRESSES: You may submit comments by any of the methods identified in the RFI.¹ Please submit your comments using only one method.

¹ See 86 FR 16837-38 (March 31, 2021).

FOR FURTHER INFORMATION CONTACT:

OCC: Kevin Greenfield, Deputy Comptroller for Operational Risk, Norine Richards, Director for Bank Technology Operations, Paul Reymann, Director for Consumer Compliance Policy, or Siobhan Williams, Bank Information Technology Analyst, Bank Supervision Policy Department, (202) 649-6550; Beth Knickerbocker, Chief Innovation Officer, or Maggie Colvin, Innovation Officer, Office of Innovation, (202) 649-5200; Alireza Ebrahim, Senior Financial Economist, Risk Analytics Division, (202) 649-5515; or Jorge D. Aguilar, Counsel, Chief Counsel's Office, (202) 649-7187.

Board: David Palmer, Lead Financial Institution Policy Analyst, (202) 452-2904, Jeff Ernst, Lead Financial Institution Policy Analyst, (202) 452-2814, or Kavita Jain, Deputy Associate Director, (202) 452-2062, Division of Supervision and Regulation; Dana Miller, Senior Counsel, (202) 452-2751, Division of Consumer and Community Affairs, or Patricia Yeh, Senior Counsel, (202) 452-3089, or Gavin Smith, Senior Counsel, (202) 452-3474, Legal Division, Board of Governors of the Federal Reserve System, 20th and C Streets NW, Washington, DC 20551. For users of Telecommunication Device for the Deaf (TDD), (202) 263-4869.

FDIC: Sumaya Muraywid, Senior Examination Specialist, Division of Risk Management Supervision, (202) 898-3904, smuraywid@fdic.gov; David Friedman, Senior Policy Analyst, Division of Depositor and Consumer Protection, 202-898-7168, dfriedman@fdic.gov; or Chris Ledoux, Corporate Expert, Legal Division, 202-898-3535, cledoux@fdic.gov.

Bureau: Albert D. Chang, Senior Counsel, Office of Innovation, (202) 450-7299; Patrice Alexander Ficklin, Fair Lending Director, Office of Fair Lending & Equal Opportunity, (202) 435-7205; and Kathryn Lazarev, Senior Counsel, Office of Regulations, (202) 435-7700. If you require this document in an alternative electronic format, please contact CFPB_Accessibility@cfpb.gov.

NCUA: Timothy Segerson, Deputy Director, Office of Examination & Insurance, 703-518-6300; Chrisanthy Loizos, Senior Trial Attorney, Office of General Counsel, 703-518-6540; Joe Goldberg, Director, Division of Consumer Compliance Policy and Outreach, 703-518-1142.

SUPPLEMENTARY INFORMATION: On March 31, 2021, the agencies published in the Federal Register ² a document inviting comments on financial institutions' use of artificial intelligence (AI), including machine learning (ML). The request for information (RFI) was issued to obtain respondents' views on financial institutions' use of AI in their provision of services to customers and for other business or operational purposes; appropriate governance, risk management, and controls over AI; and any challenges in developing, adopting, and managing AI. The RFI also solicited respondents' views on the use of AI in financial services to assist in determining whether any clarifications from the agencies would be helpful for financial institutions' use of AI in a safe and sound manner and in compliance with applicable laws and regulations, including those related to consumer protection. The document stated that the comment period would close on June 1, 2021. The agencies have received requests to extend the comment period. An extension of the comment period will provide additional opportunity for the public to analyze the RFI and prepare comments to address the questions posed by the agencies. Therefore, the agencies are extending the end of the comment period for the RFI from June 1, 2021 until July 1, 2021.

² Request for Information and Comment on Financial Institutions' Use of Artificial Intelligence, including Machine Learning. 86 FR 16837-38 (March 31, 2021).

Bureau: The Acting Director of the Bureau, David Uejio, having reviewed and approved this document, is delegating the authority to electronically sign this document to Grace Feola, a Bureau Federal Register Liaison, for purposes of publication in the Federal Register.

Michael J. Hsu,
Acting Comptroller of the Currency.
By order of the Board of Governors of the Federal Reserve System.
Ann Misback,
Secretary of the Board.
Federal Deposit Insurance Corporation.
Dated at Washington, DC, on May 13, 2021.
James P. Sheesley,
Assistant Executive Secretary.
Grace Feola,
Federal Register Liaison, Bureau of Consumer Financial Protection.
Melane Conyers-Ausbrooks,
Secretary of the Board, National Credit Union Administration.

[FR Doc. 2021-10861 Filed 5-21-21; 8:45 am]

BILLING CODE 4810-33-P; 6210-01-P; 4810-AM-P; 6714-01-P